DEPARTMENT OF ENERGY

Federal Energy Regulatory Commission

[Docket No. RP02-205-000]

K N Wattenberg Transmission Limited Liability Company; Notice of Request for Waiver

March 27, 2002.

Take notice that on March 18, 2002, K N Wattenberg Transmission Limited Liability Company (KNW) tendered for filing a petition to the Commission to waive its filing requirement contained in 18 CFR 206, et seq. to the extent such rules require KNW to file a FERC Form No. 2 for the calendar year 2001.

KNW states that by year end 2001, KNW neither owned nor operated facilities subject to the Commission's jurisdiction and it was no longer a natural gas company as defined in the Natural Gas Act. KNW does not believe that the intent of the Form No. 2 filing requirement would be served if the requirement is imposed on KNW for the reporting year 2001.

KNW requests that the Commission issue an order to KNW waiving the applicability of the FERC Form No. 2 filing requirement contained in 18 CFR 260 for the year 2001.

Any person desiring to be heard or to protest said filing should file a motion to intervene or a protest with the Federal Energy Regulatory Commission, 888 First Street, NE., Washington, DC 20426, in accordance with Sections 385.214 or 385.211 of the Commission's rules and regulations. All such motions or protests must be filed on or before April 3, 2002. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-7897 Filed 3-29-02; 8:45 am]

BILLING CODE 6717-01-P